Title 3—

The President

Proclamation 7703 of September 12, 2003

National Historically Black Colleges and Universities Week, 2003

By the President of the United States of America

A Proclamation

Historically Black Colleges and Universities have a distinguished past and an important future in providing higher education for Americans throughout our country. As we celebrate National Historically Black Colleges and Universities Week, we recognize these institutions for their dedication to academic excellence. And we reaffirm our Nation's commitment to equal educational opportunities for all Americans.

Since the mid 1800s, Historically Black Colleges and Universities have provided superb education and training to many Americans. And these schools opened the door to African Americans when other doors were shamefully barred. Since their inception, these schools have furthered the development of young people who went on to become leaders in government, business, education, science, the military, law, and many other fields. Graduates of Historically Black Colleges and Universities have made great contributions to America, and continue to serve as role models for all Americans.

The struggles and many successes of America's Historically Black Colleges and Universities are the struggles and successes of our Nation. Today, our Nation's 105 Historically Black Colleges and Universities are building on their commitment to excellence and their integral position within our higher education system. Our Nation must continue to support these schools for the sake of our students and our future.

In 2002, I signed an Executive Order supporting the White House Initiative on Historically Black Colleges and Universities to help find new ways to strengthen these schools. My Administration also has sought to increase fiscal year 2004 funding for Historically Black Colleges and Universities by 5 percent, requesting more than $224 million. In addition, the President's Board of Advisors on Historically Black Colleges and Universities is helping these colleges and universities benefit from Federal programs, obtain private-sector support for their endowments, and build private-sector partnerships to strengthen faculty development and cooperative research.

America's Historically Black Colleges and Universities have a proud and storied tradition. America recognizes and salutes their history and achievements and will work for their continued success.

NOW, THEREFORE, I, GEORGE W. BUSH, President of the United States of America, by virtue of the authority vested in me by the Constitution and laws of the United States, do hereby proclaim September 14 through September 20, 2003, as National Historically Black Colleges and Universities Week. I call upon public officials, educators, librarians, and all the people of the United States to observe this week with appropriate ceremonies, activities, and programs as we demonstrate our appreciation for these important institutions and their many successful graduates.

IN WITNESS WHEREOF, I have hereunto set my hand this twelfth day of September, in the year of our Lord two thousand three, and of the Independence of the United States of America the two hundred and twenty-eighth.

B

[FR Doc. 03-23867

Filed 9-15-03; 1:44 pm]

Billing code 3195-01-P